ENVIRONMENTAL PROTECTION AGENCY

[OPP-2003-0398; FRL-7342-9]

Tribal Pesticide and Special Projects; Request for Proposals

AGENCY: Environmental Protection Agency (EPA).

ACTION: Notice.

SUMMARY: EPA's Office of Pesticide Programs (OPP), in coordination with the EPA regional offices, is soliciting pesticide and special project proposals from eligible tribes, Alaska native villages, and intertribal consortia for fiscal year (FY) 2004 funding. Under this program, cooperative agreement awards will provide financial assistance to eligible tribal governments, Alaska native village governments, or intertribal consortia to carry out projects that assess or reduce risks to human health and the environment from pesticide exposure. The total amount of funding available for award in FY 2004 is expected to be approximately $445,000, with a maximum funding level of $50,000 per project.

DATES: Proposals must be received by your EPA regional office on or before 5 p.m. March 29, 2004.

ADDRESSES: Proposals may be submitted to your EPA regional office by mail, fax, or electronically. Please follow the detailed instructions provided in Unit IV.H. of the SUPPLEMENTARY INFORMATION.

FOR FURTHER INFORMATION CONTACT: Karen Rudek, Field and External Affairs Division (7506C), Office of Pesticide Programs, Environmental Protection Agency, 1200 Pennsylvania Ave., NW., Washington, DC 20460-0001; telephone number: (703) 305-6005; fax number: (703) 308-1850; e-mail address: rudek.karen@epa.gov.

SUPPLEMENTARY INFORMATION:

I. Overview Information

The following listing provides certain key information concerning the proposal opportunity.

• Federal agency name: Environmental Protection Agency (EPA).

• Funding opportunity title: Tribal Pesticide and Special Projects; Request for Proposals.

• Announcement type: The initial announcement of a funding opportunity.

• Catalog of Federal Domestic Assistance (CFDA) number: 66.500.

• Dates: Applications must be received by EPA on or before March 29, 2004.

II. General Information

A. Does this Action Apply to Me?

Potentially affected entities include federally recognized tribal governments, federally recognized Alaska native village governments, or qualified intertribal consortia. For this solicitation, the word “tribe” refers to federally recognized tribes as well as to federally recognized Alaska native villages. An “intertribal consortium” is defined as a partnership of two or more federally recognized tribes that is authorized by its membership to apply for, and receive, assistance under the Federal Insecticide, Fungicide, and Rodenticide Act (FIFRA). Only one project proposal from each tribal government or intertribal consortium will be considered for funding. If you have any questions regarding the applicability of this action to a particular entity, consult the person listed under FOR FURTHER INFORMATION CONTACT.

B. How Can I Get Copies of this Document and Other Related Information?

1. Docket. EPA has established an official public docket for this action under docket identification (ID) number OPP-2003-0398. The official public docket is the collection of materials that is available for public viewing at the Public Information and Records Integrity Branch (PIRIB), Room 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit I.B.1, above. Once in the system, select “search,” then key in the appropriate docket ID number.

III. Introduction

In 1997, EPA published its first solicitation for project proposals that supported pesticide management and water quality protection in Indian country. (For the purposes of this solicitation, the term “Indian country” means: (1) All land within the limits of any Indian reservation under the jurisdiction of the United States Government, notwithstanding the issuance of any patent, and including rights-of-way running throughout the reservation; (2) all dependent Indian communities within the borders of the United States, whether within the original or subsequently acquired territory thereof, and whether within or without the limits of the State; and (3) all Indian allotments, the Indian titles to which have not been extinguished, including rights-of-way running through the same.

Each year since 1997, EPA's Office of Pesticide Programs, in coordination with the EPA regional offices, has published similar solicitations, awarding approximately $445,000 annually to eligible tribes and intertribal consortia for projects supporting pesticide management and water quality goals. This Federal Register notice provides qualification and application requirements to parties who may be interested in submitting proposals for fiscal year 2004 monies. The total amount available for award during this funding cycle is expected to be approximately $445,000. Maximum award amount per proposal is set at $50,000, and only one proposal per applicant will be accepted for consideration. Indirect cost rates will not increase the $50,000 maximum funding amount.

IV. Program Description

A. Purpose and Scope

Cooperative agreements awarded under this program are intended to provide financial assistance to eligible tribal governments or intertribal consortia for projects that assess and/or reduce the risks of pesticide exposure to human health and the environment. Funds may be used to support new activities that fit the requirements of this solicitation, or to further existing eligible projects or programs. Projects may be targeted to any pesticide related concern or need facing a tribe or intertribal consortium. Although the proposal may request funding for activities that will further long-term objectives, this program provides one time funding, and the maximum period of performance for funded activities is expected to be approximately 12 months.

This program is included in the Catalog of Federal Domestic Assistance at http://www.cfda.gov/public/whole.pdf.

B. Goals and Objectives

EPA intends that recipients will use funding provided under this Tribal Pesticide and Special Project Program to help address the specific, pesticide related concerns of their communities. The Agency will consider funding a broad range of projects that assess or reduce pesticide exposure risks to human health and the environment in Indian country. For a partial listing of eligible types of projects, see Unit IV.E.

C. Eligibility

1. Applicants. Any federally recognized tribal government or intertribal consortium (as defined in Unit I.A.) that is eligible to receive federal funds may submit a project proposal. Only federally recognized tribes and intertribal consortia are eligible for funding under this program, and only one project proposal may be submitted per applicant.

To be eligible for consideration, applicants must meet all of the following criteria. Failure to meet the following criteria will result in the automatic disqualification of the proposal for consideration for funding:

• The applicant must be eligible to receive funding under this announcement. (If you are applying as a consortium, you must provide verification of your eligibility according to the requirements of Unit I.A.)

• The proposal must meet all format and content requirements contained in this notice.

• The proposal must comply with the directions for submittal contained in this notice.

If the applicant has received project funding in prior years through the Office of Pesticide Programs tribal grant program, does this proposal package include evidence that outcomes of prior projects were beneficial, sustainable, and/or transferable. (If the applicant has never received an award under this grant program, that should be clearly noted. If unexpected barriers were encountered during implementation of a prior project, those should be noted and briefly discussed as well.)

2. Qualifications. Qualified applicants are limited to all federally recognized tribes and Alaska native villages, and intertribal consortia as defined in Unit I.A of this notice. Additional application requirements are listed under Unit IV.G.

3. Incomplete or late proposals. Incomplete or late proposals will be disqualified for funding consideration. Contact the appropriate regional staff person if you need assistance or have questions regarding the creation or submission of a project proposal. To ensure proper receipt by EPA, it is imperative that you identify docket ID number OPP 2003-0398 in the subject line on the first page of your proposal.

D. Authority

EPA expects to enter into grants and cooperative agreements under the authority provided in FIFRA, section 20 which authorizes the Agency to issue grants or cooperative agreements for research, public education, training, monitoring, demonstration and studies; and in FIFRA section 23(a)(1) which authorizes EPA to enter into cooperative agreements with states and Indian tribes to implement pesticide enforcement programs. Pursuant to the Departments of Veterans Affairs and Housing and Urban Development, and Independent Agencies Appropriations Act for FY 1999, pesticide program implementation grants under section 23(a)(1) of FIFRA are available for “pesticide program development and implementation, including enforcement and compliance activities.”

The award and administration of these grants will be governed by the Uniform Administrative Requirements for Grants and Cooperative Agreements to states, tribes, and local governments set forth at 40 CFR part 31. Grants awarded pursuant to this solicitation are program grants subject to the regulations for “Environmental Program Grants for Tribes” set forth at 40 CFR part 35, subpart B. In addition, the provisions in 40 CFR part 32, governing government wide debarment and suspension, and the provisions in 40 CFR part 40, regarding restrictions on lobbying, apply.

All costs incurred under this program must be allowable under the applicable OMB Cost Circular A-87. Copies of this circular can be found at http://www.whitehouse.gov/omb/circulars/. In accordance with EPA policy and the OMB circular, any recipient of funding must agree not to use assistance funds for fund-raising, or political activities such as lobbying members of Congress or lobbying for other federal grants, cooperative agreements, or contracts. See 40 CFR part 40.

E. Activities that May Be Funded

Projects may be targeted to any pesticide concern or need facing a tribe or intertribal consortium, including, but not limited to:

• Water quality.

• Development/support of exposure and risk assessment capacity.

• Traditional tribal lifeways/subsistence. Effects of pesticides on cultural activities.

• Assessment of the need for and/or development of a pesticide management policy or plan.

• Consideration of integrated pest management, reduced pesticide use, or alternatives to pesticides.

• Sampling.

• Concerns associated with the return of culturally and spiritually significant items that may have been exposed to pesticides as part of historical preservation efforts by museums or other collectors.

• Noxious weed education materials and/or control alternatives.

• Public outreach/education materials relating to pest management and/or pesticide safety.

In addition, eligible proposals may be focused on the monitoring of surface water or ground water (e.g., assessing dietary exposure to pesticides via drinking water, determining those water bodies that may be impaired by pesticides, predicting potential exposure to endangered or threatened aquatic species, or establishing a baseline of contamination from which to measure progress toward future improvement in the environment).

Water quality projects may involve information gathering and baseline development including vulnerability assessment, identifying pesticides (from either on or off reservation sources) that are most likely to impact water quality, providing information to pesticide users on ways they can assist in protecting the quality of water sources, and developing other measures that protect water from pesticides. Water quality work may also focus on the development or implementation of programs aimed at preventing contamination of water sources, mitigating contaminated water sources or implementing best management practices.

Other projects, not necessarily linked to water quality issues, may include the establishment of tribal pesticide codes, creating and implementing a system for the proper disposal of pesticides, and/or educational outreach to the community. Sampling projects may include soil sampling, residue sampling on culturally significant/medicinal plants, or sampling to determine the effects of pesticides on cultural activities, such as subsistence hunting and fishing.

Water quality and non-water quality pesticide related projects are equally eligible for funding under this grant program. Reviewers will give additional consideration to proposals that recognize and build upon existing, publicly available, technical and educational information. There are no cost share requirements for this project; however, leveraging of these funds by matching funds and/or in-kind contributions is encouraged.

F. Award and Distribution of Funds

1. Available funding. Funding for each award recipient will be in the form of a cooperative agreement for $50,000 or less, under FIFRA sections 20 and 23(a)(1). Total funding available for award is expected to be approximately $445,000.

Should additional funding become available for award, the Agency may make additional monies available, based on this solicitation and in accordance with the final selection process, without further notice of competition. The Agency also reserves the right to decrease available funding for this program, or to make no awards based on this solicitation. All costs charged to these awards must be allowable under the applicable OMB Cost Circular, A-87 which may be found at http://www.whitehouse.gov/omb/circulars/.

2. Evaluation process and criteria. Proposals will be reviewed and approved for validity and completeness by EPA regional office personnel. If the region determines that an application is incomplete, the proposal will not be considered further. The region will forward all complete proposal packages, along with regional comments, to an EPA review panel convened by the Office of Pesticide Programs. If necessary, the panel will consult with regional staff regarding proposal content and regional comments. If money remains after the award selection process is completed, the review team will determine the allocation of the remaining money. Final selections will be made by close of business 60 days after the closing date for receipt of proposals.

Applicants must submit information, as specified in this solicitation, to address award criteria. Applicants must also provide information specified in this solicitation that will assist EPA in assessing the tribe's capacity to do the work outlined in the project proposal. The proposed work plan and budget should reflect activities that can realistically be completed during the period of performance of the cooperative agreement. Criteria that will be used to review, rank and award funding are found below.

a. General background information requirement. Pesticide related projects that address a wide variety of issues of concern to Indian country are eligible for funding under this grant program. If the applicant tribe or consortium has previously received project funding from the Office of Pesticide Programs Tribal Grant Program, specific information about those funded projects should be included with this proposal, for example:

• What was the project?

• When was the award made, and for what dollar amount?

• What successes or barriers were encountered as the project moved forward?

• What outputs from previously funded OPP projects continue to provide benefits to the tribe (e.g., retention of trained personnel, continued use of purchased equipment, accretion of baseline, sampling and analysis data)?

• Information on projects previously funded by this OPP tribal grant program may be provided in several ways: You may include descriptive language either in the narrative of the current proposal or as an appendix to the current proposal, or you may include a copy of the previous project's final report as an appendix to this proposal. The name of the EPA Project Officer for any projects previously funded under this grant program should also be included. If the applicant has never received funding under this grant program, that should be clearly noted in the proposal.

Failure to address this information request may render your proposal non responsive to this solicitation. If you have questions about this requirement, please contact your EPA region, or the person listed under FOR FURTHER INFORMATION CONTACT.

b. Selection criteria - Total possible points: 100

Technical Qualifications, Overall Management Plan, Past Awards and Performance (30 Points)

Does the person(s) designated to lead the project have the technical expertise he or she will need to successfully complete it? Does the project leader have experience in grant and project management?

Proposals should provide complete information on the education, skills, training and relevant experience of the project leader. As appropriate, please cite technical qualifications and specific examples of prior, relevant experience. If this project will develop new tribal capacity, describe how the project leader and/or staff will gain necessary training and expertise.

To whom does the project leader report? What systems of accountability and management oversight are in place to ensure that this project stays on track?

If previously performed work directly impacts this project, briefly describe the connection. If a directly relevant project is currently ongoing, what progress has been made? If this new project builds upon earlier efforts, how will the tribe use the knowledge, data, and experience derived from previous projects to shape this new proposed activity?

If appropriate, reviewers will give additional consideration to proposals that recognize and build upon existing, publicly available, technical and educational information.

Justification for Need of the Project, Soundness of Technical Approach (35 Points)

To provide reviewers with context for your proposed project, and to assist them in gaining the clearest possible sense of the positive impact of this project on your tribe and the environment, please briefly provide some information about your reservation:

1. Specify the size, geography, and general climate of the reservation.

2. About how many residents are tribal members and how many are not tribal members?

3. How much of the reservation is under cultivation?

4. Does the reservation include wetlands or other preserves?

5. If there is relevance to your project, briefly describe the tribal and non-tribal populations of surrounding counties/states, and surrounding land use.

6. How many people (tribal/non-tribal) are employed by the tribal government (e.g., in government services, including health care, police and fire protection)?

7. How many are employed on the reservation in other areas that use pesticides or may be impacted by their use (e.g., agriculture, animal husbandry, fisheries/fishing, forestry, construction, casinos/resorts/golf course maintenance, etc.)?

8. If you are concerned about pesticide pollution that may originate within reservation boundaries, what are the potential sources and what chemicals might be involved?

9. If you are concerned with pollution migration from off-reservation sources, what are those potential sources, and what chemicals are of specific concern?

10. Is the tribe concerned about water quality issues? If so, please describe the nature of these concerns.

11. Does the tribe currently have any pesticide policy or pesticide management program in place?

12. Why is this project important to the tribe or the tribal consortium? What environmental issues(s) will it address and how serious and/or pervasive are these issues? What is the expected outcome of the project? What benefits will this project bring to the tribe in terms of human and environmental health?

13. Has the tribe identified a need to coordinate or consult with other parties (tribal and/or non-tribal) to ensure the success of this project? If so, who are they and what is your plan to involve them? How will they be affected by the outcome of the project?

14. What are the key outputs of this project? How do you propose to quantify and measure progress? Have interim milestones for this project been established? If so, what are they? How will you evaluate the success of the project in terms of measurable environmental results?

15. Does your budget request accurately reflect the work you propose? Please provide a clear correlation between expenses and project objectives. Will EPA funding for this project be supplemented with funding from other source(s)? If so, please identify them.

16. Please describe the steps you will take to ensure successful completion of the project. Provide a time line and description of interim and final results and deliverables.

Benefits, Sustainability, Transferable Results (35 Points)

Will the results from this project continue to provide benefits to the tribe or other tribes after the period of performance has expired and this funding is no longer available? How are the benefits of this effort expected to be sustained over time? Can the project results be incorporated into existing and/or future pesticide-related tribal environmental activities? Are any of the deliverables, experiences, products, or outcomes resulting from the project transferable to other communities? Might this project readily be implemented by another tribe?

What ecological or human health benefits does this project provide? What quality of life issues does the project address? Does the project have limited or broad application to address risks related to pesticides?

Does the applicant recognize a need for coordination between tribal agencies and outside communities, and/or federal, state or local agencies? Will the project help build tribal infrastructure and capacity? How?

c. Selection official. The final funding decision will be made from the group of top rated proposals by the Chief of the Government and International Services Branch, Field and External Affairs Division, Office of Pesticide Programs.

d. Dispute resolution process. The procedures for dispute resolution at 40 CFR 30.63 and 40 CFR 31.70 apply.

G. Application Requirements

1. Content requirements. Proposals must be typewritten, double spaced, in 12 point or larger print, on 8.5 x 11 inch paper with minimum 1 inch horizontal and vertical margins. Pages must be numbered, in order, starting with the cover page and continuing through the appendices. One original and one electronic copy (e-mail or disk) is required.

In order to be considered for funding, proposals must be submitted to the regional tribal pesticide staff contact indicated in Unit IV.H. of this solicitation.

Your application package must include the following:

• Cover page. Including descriptive project title.

• Executive summary. The executive summary shall be a stand alone, overview document, of one page or less. It should quickly explain the high points of the proposed project and why it is important for the protection of human health and the environment in your part of Indian country. What do you intend to do with these grant funds and what do you expect these activities to accomplish?

• Table of contents. List the different sections of your proposal and the page number on which each section begins.

• Tribal project manager contact information, including qualifications.

• Proposal narrative. Includes sections I-IV as identified below. The narrative should not exceed 10 pages.

• Part I--Project title. Descriptive project title.

• Part II--Project description and objectives. In this section describe the project, its goals, and address relevant evaluation criteria.

• Part III--Approach and methods. In this section describe approach and methods and address appropriate evaluation criteria.

• Part IV--Impact assessment. In this section describe impacts your project will have on human health and the environment and address appropriate evaluation criteria.

2. Draft work plan (1-2 pages). The submitted draft work plan should outline:

• Description/list of deliverables.

• The separate phases of the project.

• The tasks associated with each phase of the project.

• The time frames for completion of each phase or task.

• The name, title of the person(s) who will conduct each phase or task.

• The dates when progress reports will be provided to EPA, clearly showing deliverables, accomplishments, delays and/or obstacles. (Project costs cannot be incurred until a final work plan has been approved by the appropriate EPA regional office.)

3. Estimated budget. The estimated budget should outline costs for personnel, fringe benefits, travel, equipment, supplies, contractual, indirect cost rate, and any other costs associated with the proposed project.

4. Letter or resolution from the tribal leadership showing support for, and commitment to, the project. (If it is not possible to obtain a letter/resolution from your tribal leader to submit with your project proposal, an interim letter of explanation must be included with the proposal. An original letter/resolution from your tribal leadership will be required prior to project award.) If the applicant is a consortium of federally recognized tribes (as defined in Unit I.A.), a letter from the consortium leadership, on consortium letterhead, affirming consortium status and member tribes' support for the project, must accompany the proposal.

5. Letter of confirmation of availability for any other funds needed to complete the project. If your proposal requires the use of additional funds for leveraging, please include a letter from the funding source, confirming that these monies are available for the project. If the budget includes a tribal in-kind contribution, a letter of confirmation is not needed.

6. Confidential business information. Applicants must clearly mark information considered confidential business information. EPA will make a final confidentiality determination for information the applicant claims as confidential business information, in accordance with Agency regulations at 40 CFR part 2, subpart B.

7. Additional information. Additional information, including maps, data tables, excerpts from studies, photographs, news media reports, or other documents may be included in appendices to the main project proposal, when they add significant supporting detail to the main proposal. Appendix titles, and their starting page numbers, should be included in the Table of Contents, just after the proposal cover page.

H. Application Procedures

1. Submission instructions. The applicant must submit the project proposal to the appropriate EPA regional contact, as listed below. One original, signed package must be sent by mail. An electronic copy of the proposal is also required and may either accompany the mailed package or be sent separately via e-mail to the regional contact. The proposal must be received by your EPA region no later than close of business March 29, 2004. Incomplete or late proposals will be disqualified for funding consideration. Contact the appropriate regional staff person if you need assistance or have questions regarding the creation or submission of a project proposal. To ensure proper receipt by EPA, it is imperative that you identify docket ID number OPP 2003-0398 in the subject line on the first page of your proposal.

EPA regional tribal pesticide contacts are as follows:

EPA Region I (Connecticut, Maine, New Hampshire, Rhode Island, Vermont). Rob Koethe, EPA Region I, One Congress St., Suite 1100, (CPT), Boston, MA 02114-2023, telephone: (617) 918-1535, fax: (617) 918-1505, e-mail: koethe.robert@epa.gov.

EPA Region II (New Jersey, New York, Puerto Rico, Virgin Islands). Tracy Truesdale, EPA Region II, U.S. EPA Facilities, Raritan Depot (MS50), 2890 Woodbridge Ave., Edison, NJ 08837-3679, telephone: (732) 906-6894, fax: (732) 321-6771, e-mail: truesdale.tracy@epa.gov.

EPA Region III (Delaware, Maryland, Pennsylvania, Virginia, West Virginia, District of Columbia). Fatima El Abdaoui, EPA Region III, Chestnut Building (3AT11), Philadelphia, PA 19107, telephone: (215) 814-2129, fax: (215) 814-3114, e-mail: el-abdaoui.fatima@epa.gov.

EPA Region IV (Alabama, Florida, Georgia, Kentucky, Mississippi, North Carolina, South Carolina, Tennessee). Randy Dominy, EPA Region IV, 61 Forsyth St., SW., Atlanta, GA 30303, telephone: (404) 562-8996, fax: (404) 562-8973, e-mail: domini.randy@epa.gov.

EPA Region V (Illinois, Indiana, Michigan, Minnesota, Wisconsin). Meonii Crenshaw, EPA Region V, 77 West Jackson Boulevard (DRT8J), Chicago, IL 60604-3507, telephone: (312) 353-4716, fax: (312) 353-4788, e-mail: crenshaw.meonii@epa.gov.

EPA Region VI (Arkansas, Louisiana, New Mexico, Oklahoma, Texas). Jerry Collins, EPA Region VI, 1445 Ross Avenue, Dallas, TX 75202-2733, telephone: (214) 665-7562, fax: (214) 665-7263, e-mail: collins.jerry@epa.gov.

EPA Region VII (Iowa, Kansas, Missouri, Nebraska). John Tice, EPA Region VII, 100 Centennial Mall N., Room 289, Lincoln, NE 68508, telephone: (402) 437-5080, fax: (402) 323-9079, e-mail: tice.john@epa.gov.

EPA Region VIII (Colorado, Montana, North Dakota, South Dakota, Utah, Wyoming). Margaret Collins, EPA Region VIII, 999 18th St., (8P P3T), Denver, CO 80202-2466, telephone: (303) 312-6023, fax: (303) 312-6116, e-mail: collins.margaret@epa.gov.

EPA Region IX (Arizona, California, Hawaii, Nevada, American Samoa, the Commonwealth of the Northern Mariana Islands, Guam). Marcy Katzin, EPA Region IX, 75 Hawthorne St., (CMD 5), San Francisco, CA 94105, telephone: (415) 947-4215, fax: (415) 947-3583, katzin.marcy@epa.gov.

EPA Region X (Alaska, Idaho, Oregon, Washington). Theresa Pimentel, EPA Region X, 1200 Sixth Avenue, (ECO-084), Seattle, WA 98101, telephone: (206) 553-0257, fax: (206) 553-1775, e-mail: pimentel.theresa@epa.gov.

2. Notification process. Regions will notify their respective applicants of the selections. Those applicants not awarded funds may request an explanation for the lack of award from EPA regional staff.

V. Post Selection Activity

Selected applicants must formally apply for funds through the appropriate EPA regional office. In addition, selected applicants must negotiate a final work plan, including reporting requirements, with the designated EPA regional project officer. For more general information on post award requirements and the evaluation of grantee performance, see 40 CFR part 31.

VI. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Pesticides, Tribes.

Dated: February 5, 2004.
William H. Sanders,
Acting Assistant Administrator, Office of Prevention, Pesticides and Toxic Substances.

[FR Doc. 04-2955 Filed 2-6-04; 2:07 pm]

BILLING CODE 6560-50-S